DEPARTMENT OF TRANSPORTATION

Federal Aviation Administration

14 CFR Part 39

[Docket No. FAA-2021-0175; Project Identifier 2001-SW-33-AD]

RIN 2120-AA64

Airworthiness Directives; Airbus Helicopters (Type Certificate Previously Held by Eurocopter France)

AGENCY: Federal Aviation Administration (FAA), DOT.

ACTION: Supplemental notice of proposed rulemaking (SNPRM); reopening of comment period.

SUMMARY: The FAA is revising a SNPRM for all Eurocopter France (now Airbus Helicopters) Model SA-365N, SA-365N1, AS-365N2, AS 365 N3, and SA-366G1 helicopters. The SNPRM retained the proposed requirements in the notice of proposed rulemaking (NPRM) and added recurring inspections and references to an engineering report that lists approved U.S. alternative fasteners and materials that may be used in any required repairs. The FAA is reopening the comment period because a significant amount of time has elapsed since the SNPRM was published. This proposed AD would require measuring the 9-degree frame flange (frame) for the correct edge distance of the four attachment holes for the stretcher support and inspecting for cracks, and repairing the frame, if necessary, as specified in two Direction Générale de l'Aviation Civile (DGAC) ADs, which are proposed for incorporation by reference (IBR). This action also revises the SNPRM by updating the type certificate holder's name and estimated cost information. The FAA is proposing this airworthiness directive (AD) to address the unsafe condition on these products. Since these actions would impose an additional burden over those in the SNPRM, the agency is requesting comments on this SNPRM.

DATES: The comment period for the SNPRM published in the Federal Register on March 11, 2004 (69 FR 11556), is reopened.

The FAA must receive comments on this SNPRM by June 21, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For DGAC material that is proposed for IBR in this AD, contact the European Union Aviation Safety Agency (EASA), Konrad-Adenauer-Ufer 3, 50668 Cologne, Germany; telephone +49 221 8999 000; email ADs@easa.europa.eu; internet www.easa.europa.eu. You may find the DGAC material on the EASA website at https://ad.easa.europa.eu. For American Eurocopter material, contact Airbus Helicopters, 2701 N Forum Drive, Grand Prairie, TX 75052; telephone 972-641-0000 or 800-232-0323; fax 972-641-3775; or at https://www.airbus.com/helicopters/services/technical-support.html. You may view the DGAC and American Eurocopter material at the FAA, Office of the Regional Counsel, Southwest Region, 10101 Hillwood Pkwy., Room 6N-321, Fort Worth, TX 76177. For information on the availability of this material at the FAA, call 817-222-5110. The DGAC material is also available in the AD docket on the internet at https://www.regulations.gov by searching for and locating Docket No. FAA-2021-0175-AD.

Examining the AD Docket

You may examine the AD docket on the internet at https://www.regulations.gov by searching for and locating Docket No. FAA-2021-0175; or in person at Docket Operations between 9 a.m. and 5 p.m., Monday through Friday, except Federal holidays. The AD docket contains this SNPRM, any comments received, and other information. The street address for Docket Operations is listed above. Comments will be available in the AD docket shortly after receipt.

FOR FURTHER INFORMATION CONTACT: Blaine Williams, Aerospace Engineer, Cabin Safety & Environmental Systems Section, Los Angeles ACO Branch, Compliance & Airworthiness Division, 3960 Paramount Blvd., Lakewood, CA 90712; telephone 562-627-5371; email blaine.williams@faa.gov.

SUPPLEMENTARY INFORMATION:

Comments Invited

The FAA invites you to send any written relevant data, views, or arguments about this proposal. Send your comments to an address listed under ADDRESSES. Include “Docket No. FAA-2021-0175; Project Identifier 2001-SW-33-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Blaine Williams, Aerospace Engineer, Cabin Safety & Environmental Systems Section, Los Angeles ACO Branch, Compliance & Airworthiness Division, 3960 Paramount Blvd., Lakewood, CA 90712; telephone 562-627-5371; email blaine.williams@faa.gov. Any commentary that the FAA receives that is not specifically designated as CBI will be placed in the public docket for this rulemaking.

Background

The DGAC, which was the Technical Agent for France, issued DGAC AD 2001-061-053(A), dated February 21, 2001 (DGAC AD 2001-061-053(A)) for certain Model SA-365N, SA-365N1, AS-365N2, and AS 365 N3 helicopters; and DGAC AD 2001-283-025(A), dated July 11, 2001 (DGAC AD 2001-283-025(A)) for all Model SA-366G1 helicopters (also referred to as the Mandatory Continuing Airworthiness Information, or the MCAI), to correct an unsafe condition for those helicopters.

The FAA issued a SNPRM to amend 14 CFR part 39 by adding an AD that would apply to all Eurocopter France Model SA-365N, SA-365N1, AS-365N2, AS 365 N3, and SA-366G1 helicopters. The FAA preceded the SNPRM with an NPRM that published in the Federal Register on December 18, 2002 (67 FR 77444). The NPRM proposed to require inspecting the frame for the correct edge distance of the four attachment holes of the stretcher support and for a crack, and repairing the frame, if necessary. The NPRM was prompted by a quality control check that revealed some stretcher attachment holes were improperly located on the frame where there was insufficient edge distance.

The first SNPRM published in the Federal Register on March 11, 2004 (69 FR 11556). The first SNPRM retained the proposed requirements of the NPRM and added recurring inspections and references to an engineering report that lists approved U.S. alternative fasteners and materials that may be used in any required repairs. Additionally, the first SNPRM stated that the FAA determined that it is unnecessary to require installation of a reinforcing angle and instead will require a 550-hour repetitive inspection for those helicopters that have an edge distance on the frame of less than 5 millimeters (mm), are not cracked, and have not been repaired.

Actions Since the SNPRM Was Issued

Since the FAA issued the first SNPRM, a significant amount of time elapsed requiring the FAA to reopen the comment period to allow the public a chance to comment on the proposed actions.

Additionally, since the FAA issued the first SNPRM, Eurocopter France has changed its name to Airbus Helicopters. The FAA has revised references to the manufacturer's name specified throughout this SNPRM to identify the manufacturer's name as published in the most recent type certificate data sheet for the affected models and updates the contact information to obtain service documentation. This SNPRM also updates the estimated cost information.

Furthermore, since the FAA issued the first SNPRM, EASA has become the Technical Agent for the Member States of the European Union, which includes France. EASA is now the State of Design Authority for the affected helicopter models.

The FAA's Aircraft Certification Service has also changed its organizational structure. The new structure replaces product directorates with functional divisions. The FAA revised some of the office titles and nomenclature throughout this proposed AD to reflect the new organizational changes. Additional information about the new structure can be found in the Notice published on July 25, 2017 (82 FR 34564).

Clarification of Requirement To Install a Reinforcing Angle

The preamble of the first SNPRM stated that it was unnecessary to require the installation of a reinforcing angle but that action was included as a requirement in the body of the first SNPRM. This second SNPRM retains that installation requirement, which corresponds with the requirements of the DGAC ADs and addresses the identified unsafe condition.

Docket Number Change

For transparency and as part of the FAA's on-going docket management consolidation efforts, the FAA is transferring the docket for this SNPRM to the Federal Docket Management System (FDMS). The new Docket Number (No.) is FAA-2021-0175. The old Docket No., which is 2001-SW-33-AD, became the Project Identifier.

Related Service Information Under 1 CFR Part 51

DGAC AD 2001-061-053(A) and DGAC AD 2001-283-025(A) describe procedures for measuring the edge distance of the webs at the four attachment holes of the stretcher support on the left and right sides of the 9-degree frame, and additional actions depending on the findings. The additional actions include repetitively inspecting the frame for cracking, repair if necessary, and installation of a reinforcement plate (reinforcing angle) on the frame. These documents are distinct since they refer to different helicopter models.

American Eurocopter Engineering Report No. AEC/03R-E-005, “Addendum ASB 53.00.42 and 53.00.43 AS365”, dated January 29, 2003, specifies U.S. and European rivet equivalent part numbers, U.S. rivet part numbers with acceptable substitute materials with greater strength properties, and 5 rivet, 6 rivet, and pin Hi-lok alternatives.

This material is reasonably available because the interested parties have access to it through their normal course of business or by the means identified in the ADDRESSES section.

Comments

The FAA gave the public the opportunity to participate in developing this proposed AD. The FAA received no comments on the first SNPRM or on the determination of the cost to the public.

FAA's Determination and Requirements of This SNPRM

These products have been approved by the aviation authority of another country, and are approved for operation in the United States. Pursuant to the bilateral agreement with the State of Design Authority, the FAA has been notified of the unsafe condition described in the MCAI referenced above. The FAA is proposing this AD after evaluating all the relevant information and determining the unsafe condition described previously is likely to exist or develop in other products of these same type designs.

Certain changes described above expand the scope of the SNPRM. As a result, the FAA has determined that it is necessary to reopen the comment period to provide additional opportunity for the public to comment on this SNPRM.

Proposed AD Requirements

This proposed AD would require accomplishing the actions specified in DGAC AD 2001-061-053(A) and DGAC AD 2001-283-025(A), described previously, as incorporated by reference, except for any differences identified as exceptions in the regulatory text of this AD and except as discussed under “Differences Between this Proposed AD and the MCAI.”

Explanation of Required Compliance Information

In the FAA's ongoing efforts to improve the efficiency of the AD process, the FAA initially worked with Airbus and EASA to develop a process to use certain EASA ADs as the primary source of information for compliance with requirements for corresponding FAA ADs. As mentioned previously, when the SNPRM was published the DGAC was the Technical Agent for France. Since that time EASA has become the Technical Agent for the Member States of the European Union, which includes France. The FAA has since coordinated with other manufacturers and civil aviation authorities (CAAs) to use this process. As a result, DGAC AD 2001-061-053(A) and DGAC AD 2001-283-025(A) will be incorporated by reference in the FAA final rule. This proposed AD would, therefore, require compliance with DGAC AD 2001-061-053(A) and DGAC AD 2001-283-025(A) in their entirety, through that incorporation, except for any differences identified as exceptions in the regulatory text of this proposed AD. Using common terms that are the same as the heading of a particular section in the DGAC ADs does not mean that operators need comply only with that section. Service information specified in DGAC AD 2001-061-053(A) and DGAC AD 2001-283-025(A) that is required for compliance with DGAC AD 2001-061-053(A) and DGAC AD 2001-283-025(A) will be available on the internet at https://www.regulations.gov by searching for and locating Docket No. FAA-2021-0175 after the FAA final rule is published.

Differences Between This Proposed AD and the MCAI

The FAA has determined that acceptable U.S. alternatives to the fasteners and materials needed to perform repairs or modifications are listed in American Eurocopter Engineering Report No. AEC/03R-E-005 “Addendum ASB 53.00.42 and 53.00.043 AS365”, dated January 29, 2003.

Where DGAC AD 2001-061-053(A) exempts helicopters that were delivered after January 31, 2001, from the applicability, this proposed AD does not exempt those helicopters.

Costs of Compliance

The FAA estimates that this proposed AD affects 31 helicopters of U.S. registry. The FAA estimates the following costs to comply with this proposed AD:

Estimated Costs for Required Actions
Labor cost | Parts cost | Cost per product | Cost on U.S. operators
3 work-hours × $85 per hour = $255 | $100 | $355 | $11,005

The FAA estimates the following costs to do any necessary on-condition actions that would be required based on the results of any required actions. The FAA has no way of determining the number of helicopters that might need these on-condition actions:

Estimated Costs of On-Condition Action
Labor cost | Parts cost | Cost per product
Up to 8 work-hours × $85 per hour = $680 | $250 | Up to $930

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters (Type Certificate Previously Held by Eurocopter France): Docket No. FAA-2021-0175; Project Identifier 2001-SW-33-AD.

(a) Comments Due Date

The FAA must receive comments by June 21, 2021.

(b) Affected Airworthiness Directives (ADs)

None.

(c) Applicability

This AD applies to all Airbus Helicopters (type certificate previously held by Eurocopter France) Model SA-365N, SA-365N1, AS-365N2, AS 365 N3, and SA-366G1 helicopters, certificated in any category.

(d) Subject

Joint Aircraft System Component (JASC) Code 5311, Fuselage Main, Frame.

(e) Reason

This AD was prompted by a quality control check that revealed some stretcher attachment holes were improperly located on the frame where there was insufficient edge distance. The FAA is issuing this AD to address failure of the 9-degree frame flange (frame) due to a crack at the stretcher support attachment holes, which could result in loss of a passenger door, damage to the rotor system, and subsequent loss of control of the helicopter.

(f) Compliance

Comply with this AD within the compliance times specified, unless already done.

(g) Requirements

Except as specified in paragraph (h) of this AD: Comply with all required actions and compliance times specified in, and in accordance with the applicable Direction Générale de l'Aviation Civile (DGAC) ADs specified in paragraphs (g)(1) and (2) of this AD.

(1) For Model SA-365N, SA-365N1, AS-365N2, and AS 365 N3 helicopters: DGAC AD 2001-061-053(A), dated February 21, 2001, (DGAC AD 2001-061-053(A)).

(2) For Model SA-366G1 helicopters: DGAC AD 2001-283-025(A), dated July 11, 2001 (DGAC AD 2001-283-025(A)).

(h) Exceptions to DGAC AD 2001-061-053(A) and DGAC AD 2001-283-025(A)

(1) Where paragraph 3.1 of DGAC AD 2001-061-053(A) and DGAC AD 2001-283-025(A) specifies an initial compliance time to do the measurement, for this AD, do the measurement within 50 hours time-in-service (TIS) after the effective date of this AD.

(2) Where paragraph 3.1. of DGAC AD 2001-061-053(A) and DGAC AD 2001-283-025(A) specifies to do a measurement, for this AD, do an inspection of the area around the attachment holes for cracks concurrently with the measurement.

(3) Where paragraph 3.2.1.a) of DGAC AD 2001-061-053(A) and DGAC AD 2001-283-025(A) specifies “every 550 flight hours, check that there is no crack in the flange,” for this AD, inspect (check) the area around the attachment holes for cracks at intervals not to exceed 550 hours TIS.

(4) Where paragraph 3.2.1.b) of DGAC AD 2001-061-053(A) and DGAC AD 2001-283-025(A) requires installation of a reinforcement plate (reinforcing angle) on the flange for certain helicopters, do the installation within 550 hours TIS after accomplishment of the measurement specified in paragraph 3.1. of DGAC AD 2001-061-053(A) and DGAC AD 2001-283-025(A).

(5) Where the service information referred to in DGAC AD 2001-061-053(A) and DGAC AD 2001-283-025(A) specifies to perform a dye penetrant crack inspection “if in doubt,” this AD requires performing a dye penetrant inspection.

(6) Where paragraph 3.2.2. of DGAC AD 2001-061-053(A) and DGAC AD 2001-283-025(A) specifies to do various actions specified in paragraphs 3.2.2.(a), (b), and (c) of those ADs, for this AD, if any frame is cracked, before further flight, repair the frame. Acceptable U.S. alternatives to the fasteners and materials needed to perform repairs or modifications are listed in American Eurocopter Engineering Report No. AEC/03R-E-005, “Addendum ASB 53.00.42 and 53.00.43 AS365”, dated January 29, 2003.

(7) Where the Note in paragraph 3.2.2. of DGAC AD 2001-061-053(A) and DGAC AD 2001-283-025(A) specifies the instructions are no longer applicable after a customized repair has been carried out, for this AD, modifying or repairing the frame constitutes terminating action for the requirements of this AD.

(i) Special Flight Permit

Special flight permits, as described in 14 CFR 21.197 and 21.199, are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(2) of this AD. Information may be emailed to: 9-AVS-AIR-730-AMOC@faa.gov.

(2) Before using any approved AMOC, notify your appropriate principal inspector, or lacking a principal inspector, the manager of the local flight standards district office/certificate holding district office.

(k) Related Information

(1) For DGAC AD 2001-061-053(A) and DGAC AD 2001-283-025(A), contact the European Union Aviation Safety Agency (EASA), Konrad-Adenauer-Ufer 3, 50668 Cologne, Germany; telephone +49 221 8999 000; email ADs@easa.europa.eu; internet www.easa.europa.eu. You may find the DGAC material on the EASA website at https://ad.easa.europa.eu. For American Eurocopter material, contact Airbus Helicopters, 2701 N Forum Drive, Grand Prairie, TX 75052; telephone 972-641-0000 or 800-232-0323; fax 972-641-3775; or at https://www.airbus.com/helicopters/services/technical-support.html. You may view the DGAC and American Eurocopter material at the FAA, Office of the Regional Counsel, Southwest Region, 10101 Hillwood Pkwy., Room 6N-321, Fort Worth, TX 76177. For information on the availability of this material at the FAA, call 817-222-5110. The DGAC material may also be found in the AD docket on the internet at https://www.regulations.gov by searching for and locating Docket No. FAA-2021-0175.

(2) For more information about this AD, contact Blaine Williams, Aerospace Engineer, Cabin Safety & Environmental Systems Section, Los Angeles ACO Branch, Compliance & Airworthiness Division, 3960 Paramount Blvd., Lakewood, CA 90712; telephone 562-627-5371; email blaine.williams@faa.gov.

Issued on April 22, 2021.
Lance T. Gant,
Director, Compliance & Airworthiness Division, Aircraft Certification Service.

[FR Doc. 2021-08897 Filed 5-6-21; 8:45 am]

BILLING CODE 4910-13-P